DEPARTMENT OF ENERGY

Federal Energy Regulatory Commission

[Docket No. CP05-363-000]

Texas Eastern Transmission, LP; Notice of Abbreviated Application of Texas Eastern Transmission, LP For Partial Abandonment of Certificate of Public Convenience and Necessity and Related Authorizations

June 3, 2005.

Take notice that on May 27, 2005, Texas Eastern Transmission, LP (Texas Eastern), tendered for filing in the captioned docket an abbreviated application pursuant to section 7(b) of the Natural Gas Act, as amended, and part 157 of the Rules and Regulations of the Federal Energy Regulatory Commission (Commission), for an order permitting and approving partial abandonment of natural gas storage service in order to accommodate changes requested by Texas Eastern's customer, Transcontinental Gas Pipe Line Corporation, in the injection quantities, withdrawal quantities, and storage inventory of its storage service.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern time June 24, 2005.

Linda Mitry,
Deputy Secretary.

[FR Doc. E5-2961 Filed 6-8-05; 8:45 am]

BILLING CODE 6717-01-P